DEPARTMENT OF AGRICULTURE

Commodity Credit Corporation

Request for Extension and Revision of a Currently Approved Information Collection; Farm Reconstitutions

AGENCY: Farm Service Agency, USDA.

ACTION: Notice and request for comments.

SUMMARY: This notice announces the intention of the Farm Service Agency (FSA) to request an extension and revision for an information collection currently approved and used in of farm reconstitutions.

DATES: Comments on this notice must be submitted on or before May 9, 2006 to be assured consideration.

Additional Information or Comments: All comments concerning this notice should be addressed to Jack Stanley, Agricultural Program Specialist, USDA/FSA/PECD, 1400 Independence Ave. SW., STOP 0517, Washington, DC 20250-0517, (202) 690-4091, FAX (202) 720-0051.

SUPPLEMENTARY INFORMATION:

Title: Farm Reconstitutions.

OMB Number: 0560-0025.

Expiration Date: October 31, 2006.

Type of Request: Request for Approval of an Extension and Revision of a Currently Approved Information Collection.

Abstract: The information collected under Office of Management and Budget (OMB) Number 0560-0025, as identified above, is needed to enable the FSA to effectively administer the programs relating to reconstitution of farms, and base acres governed by 7 CFR part 718.

Form FSA-155 is used as a request for farm reconstitution initiated by the producer who wishes to combine a farm with another farm or divide a farm into multiple farming operations. The reconstitution process is a required procedure when a producer wishes to increase acreage attributed to the farm from leases or change farm acreage records as a result of a sale of any part of a farm. CCC must act on all proposed farm reconstitutions and issue their approval or disapproval on the FSA-155. It is necessary to collect the information recorded on the FSA-155 to determine farmland, and cropland resulting from combination or division of the farming operation.

Estimated Number of Respondents: 7,154.

Estimated Number of Forms Filed per person: 1.

Estimates Average Time to Respond: 45 minutes.

Estimated Total Burden Hours: 5,365 hours.

Proposed topics for comments include but are not limited to: (1) Whether the continued collection of information is necessary for the proper performance of the functions of the agency, including whether the information will have practical utility; (2) the accuracy of the agency's estimate of burden including the validity of the methodology and assumptions used; (3) ways to enhance the quality, utility and clarity of the information to be collected; or (4) ways to minimize the burden of the collection of information on those who are to respond, including through the use of appropriate automated, electronic, mechanical, or other technological collection techniques or other forms of information technology. Comments regarding this information collection requirement should be directed to the Office of Information and Regulatory Affairs, Office of Management and Budget, Attention: Desk Officer for Agriculture, Washington, DC 20503 and to Jack Stanley, Agricultural Program Specialist, USDA/FSA/PECD, 1400 Independence Ave SW., STOP 0517, Washington, DC 20250-0517.

All responses to this notice will be summarized and included in the request for OMB approval. All comments will also become a matter of public record.

Signed at Washington, DC, on March 2, 2006.
Teresa C. Lasseter,
Administrator, Farm Service Agency.

[FR Doc. E6-3404 Filed 3-9-06; 8:45 am]

BILLING CODE 3410-05-P